DEPARTMENT OF COMMERCE

Submission for OMB Review; Comment Request

The Department of Commerce will submit to the Office of Management and Budget (OMB) for clearance of the following proposal for collection of information under the emergency provisions of the Paperwork Reduction Act (44 U.S.C. Chapter 35).

Agency: National Institute of Standards and Technology (NIST).

Title: Advanced Technology Program (ATP).

Form Number(s): NIST-1262 and NIST-1263.

OMB Approval Number: 0693-0009.

Type of Review: Emergency.

Burden Hours: 32,000.

Number of Respondents: 800.

Average Hours per Response: 40.

Needs and Uses: The ATP is a competitive cost sharing program designed to assist United States businesses pursue high-risk, enabling technologies with the potential for significant commercial payoff and widespread benefits for the nation. The ATP provides multi-year funding through the use of cooperative agreements to single companies and to industry-led joint ventures. In order to participate, proposals must be submitted addressing the ATP selection criteria. The information is used to perform the requisite technical, business, and budgetary reviews of the proposals to determine if awards should be granted.

Affected Public: Business or other for-profit organizations, educational institutions, not-for-profit institutions, individuals or households.

Frequency: Annually.

Respondent's Obligation: Required to obtain or retain a benefit.

OMB Desk Officer: Jasmeet Seehra, (202) 395-3123.

Copies of the above information collection proposal can be obtained by calling or writing, Diana Hynek, Departmental Paperwork Clearance Officer, (202) 482-0266, Department of Commerce, Room 6625, 14th and Constitution Avenue, NW., Washington, DC 20230 (or via the Internet at dHynek@doc.gov).

Written comments and recommendations for the proposed information collection should be sent by March 28, 2007 to Jasmeet Seehra, OMB Desk Officer, FAX number (202) 395-5167 or via the Internet at Jasmeet_K._Seehra@omb.eop.gov.

Dated: March 1, 2007.
Gwellnar Banks,
Management Analyst, Office of the Chief Information Officer.

[FR Doc. E7-3880 Filed 3-5-07; 8:45 am]

BILLING CODE 3510-13-P